DEPARTMENT OF ENERGY

Federal Energy Regulatory Commission

Combined Notice of Filings #1

Take notice that the Commission received the following electric corporate filings:

Docket Numbers: EC18-71-000.

Applicants: NorthWestern Corporation, NJR Clean Energy Ventures II Corporation.

Description: Supplement to March 6, 2018 Application of NorthWestern Corporation, et al. for FPA Section 203 Authorization.

Filed Date: 5/3/18.

Accession Number: 20180503-5066.

Comments Due: 5 p.m. ET 5/14/18.

Take notice that the Commission received the following electric rate filings:

Docket Numbers: ER10-2437-010.

Applicants: Arizona Public Service Company.

Description: Notice of Non-Material Change in Status of Arizona Public Service Company.

Filed Date: 5/3/18.

Accession Number: 20180503-5136.

Comments Due: 5 p.m. ET 5/24/18.

Docket Numbers: ER10-3199-004.

Applicants: MDU Resources Group, Inc.

Description: Second Supplement to December 29, 2017 Updated Market Analysis in the Central Region of MDU Resources Group, Inc.

Filed Date: 5/3/18.

Accession Number: 20180503-5137.

Comments Due: 5 p.m. ET 5/24/18.

Docket Numbers: ER18-614-002.

Applicants: PJM Interconnection, L.L.C.

Description: Tariff Amendment: Response to Deficiency Letter issued April 3, 2018 in Docket No. ER18-614 to be effective 4/5/2018.

Filed Date: 5/3/18.

Accession Number: 20180503-5112.

Comments Due: 5 p.m. ET 5/24/18.

Docket Numbers: ER18-1515-000.

Applicants: MATL LLP.

Description: Compliance filing: Order No. 842 Compliance to be effective 5/15/2018.

Filed Date: 5/3/18.

Accession Number: 20180503-5114.

Comments Due: 5 p.m. ET 5/24/18.

Docket Numbers: ER18-1516-000.

Applicants: El Paso Electric Company.

Description: § 205(d) Rate Filing: Concurrence of EPE to APS Rate Schedule No. 152 to be effective 7/2/2018.

Filed Date: 5/3/18.

Accession Number: 20180503-5125.

Comments Due: 5 p.m. ET 5/24/18.

Docket Numbers: ER18-1517-000.

Applicants: PJM Interconnection, L.L.C.

Description: § 205(d) Rate Filing: Amendment to ISA, Service Agreement No. 3466, NQ77 re: Units 4 and 6 to be effective 11/28/2012.

Filed Date: 5/4/18.

Accession Number: 20180504-5124.

Comments Due: 5 p.m. ET 5/25/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2018.
Nathaniel J. Davis, Sr.,
Deputy Secretary.

[FR Doc. 2018-10000 Filed 5-10-18; 8:45 am]

BILLING CODE 6717-01-P